DEPARTMENT OF COMMERCE

National Oceanic and Atmospheric Administration

RIN 0648-XD720

Marine Mammals; File No. 18673

AGENCY: National Marine Fisheries Service (NMFS), National Oceanic and Atmospheric Administration (NOAA), Commerce.

ACTION: Notice; receipt of application.

SUMMARY: Notice is hereby given that Leslie Cornick, Ph.D., Alaska Pacific University, 4101 University Drive, Anchorage, AK 99508, has applied in due form for a permit to conduct research on northern fur seals (Callorhinus ursinus).

DATES: Written, telefaxed, or email comments must be received on or before February 23, 2015.

ADDRESSES: The application and related documents are available for review by selecting “Records Open for Public Comment” from the Features box on the Applications and Permits for Protected Species (APPS) home page, https://apps.nmfs.noaa.gov, and then selecting File No. 18673 from the list of available applications.

These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Amy Sloan; phone: (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The applicant requests authorization for takes of northern fur seals, Eastern Pacific Stock, in the Pribilof Islands from September to November annually over a five-year period. The applicant requests authorization to capture, restrain, sedate, attach external instruments, measure (standard morphometrics and weight), sample (blood, vibrissae, blubber, and muscle), and ultrasound up to 10 lactating adult females and 10 juvenile males per year. All procedures, with the exception of blubber and muscle biopsy would also be performed on up to 10 paired pups per year, without sedation. Identifiable scats would be collected opportunistically from sampled individuals and from other fur seals for comparative diet analysis. The applicant also requests incidental disturbance of 900 animals and four unintentional mortalities (including humane euthanasia if warranted) per year.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 15, 2015.
Julia Harrison,
Chief, Permits and Conservation Division, Office of Protected Resources, National Marine Fisheries Service.

[FR Doc. 2015-00998 Filed 1-21-15; 8:45 am]

BILLING CODE 3510-22-P